DEPARTMENT OF ENERGY

Federal Energy Regulatory Commission

Combined Notice of Filings #2

Take notice that the Commission received the following exempt wholesale generator filings:

Docket Numbers: EG15-108-000.

Applicants: Willey Battery Utility, LLC.

Description: Willey Battery Utility, LLC Notice of Self-Certification of Exempt Wholesale Generator Status.

Filed Date: 8/5/15.

Accession Number: 20150805-5048.

Comments Due: 5 p.m. ET 8/26/15.

Take notice that the Commission received the following electric rate filings:

Docket Numbers: ER11-3460-008; ER12-1301-006.

Applicants: Bayonne Energy Center, LLC, Zone J Tolling Co., LLC.

Description: Supplement to May 1, 2015 Notice of Non-Material Change In Status of Bayonne Energy Center, LLC, et al.

Filed Date: 7/28/15.

Accession Number: 20150728-5143.

Comments Due: 5 p.m. ET 8/18/15.

Docket Numbers: ER15-2149-001.

Applicants: Century Marketer LLC.

Description: Tariff Amendment: MBRA Tariff to be effective 9/24/2015.

Filed Date: 8/4/15.

Accession Number: 20150804-5093.

Comments Due: 5 p.m. ET 8/25/15.

Docket Numbers: ER15-2379-000.

Applicants: Beaver Ridge Wind, LLC.

Description: Notice of cancellation of market base tariff of Beaver Ridge Wind, LLC.

Filed Date: 8/4/15.

Accession Number: 20150804-5186.

Comments Due: 5 p.m. ET 8/25/15.

Docket Numbers: ER15-2380-000.

Applicants: Willey Battery Utility, LLC.

Description: Baseline eTariff Filing: Initial Baseline Filing—Willey Battery Utility to be effective 8/5/2015.

Filed Date: 8/5/15.

Accession Number: 20150805-5030.

Comments Due: 5 p.m. ET 8/26/15.

Docket Numbers: ER15-2381-000.

Applicants: AEP Texas North Company.

Description: Section 205(d) Rate Filing: TNC-OCI Alamo 6 SUA to be effective 7/16/2015.

Filed Date: 8/5/15.

Accession Number: 20150805-5046.

Comments Due: 5 p.m. ET 8/26/15.

Docket Numbers: ER15-2382-000.

Applicants: AEP Texas Central Company.

Description: Section 205(d) Rate Filing: TCC-Chapman Ranch Wind I SUA to be effective 7/16/2015.

Filed Date: 8/5/15.

Accession Number: 20150805-5051.

Comments Due: 5 p.m. ET 8/26/15.

Docket Numbers: ER15-2383-000.

Applicants: AEP Texas Central Company.

Description: Section 205(d) Rate Filing: TCC-Sendero Wind Energy IA Second Amend & Restated to be effective 9/19/2014.

Filed Date: 8/5/15.

Accession Number: 20150805-5052.

Comments Due: 5 p.m. ET 8/26/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 5, 2015.
Nathaniel J. Davis, Sr.,
Deputy Secretary.

[FR Doc. 2015-19684 Filed 8-10-15; 8:45 am]

BILLING CODE 6717-01-P